DEPARTMENT OF TRANSPORTATION

Federal Aviation Administration

14 CFR Part 71

[Airspace Docket No. 00-AWA-2]

RIN 2120-AA66

Revision to the Legal Description of the Shaw Air Force Base Class C Airspace Area; SC

AGENCY: Federal Aviation Administration (FAA), DOT.

ACTION: Final rule.

SUMMARY: This action revises the legal description of the Shaw Air Force Base (AFB), SC, Class C airspace area by changing the hours of area operation to be consistent with current operational requirements. This action designates the Class C airspace area to be effective during the specific days and hours of operation of the Shaw AFB Airport Traffic Control Tower (ATCT) as established in advance by a Notice to Airmen (NOTAM). The effective days and times will thereafter be continuously published in the Airport/Facility Directory. Additionally, the coordinates for the Sumter Municipal Airport, as published in the notice of proposed rulemaking for this action, were inadvertently listed in error. This action corrects the coordinates for the airport listed in the legal description for the Shaw AFB, SC, Class C airspace area. This action does not change the actual dimensions, configuration, or operating requirements of the Shaw AFB Class C airspace area.

EFFECTIVE DATE: January 25, 2001.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION:

Background

On April 25, 2000, the FAA proposed to revise the published effective times for the Shaw AFB Class C airspace area (65 FR 24136). Because the Shaw AFB ATCT has reduced its hours of operation, it is necessary to revise the Class C airspace effective times to coincide with the times that Class C air traffic control services are available.

Interested parties were invited to participate in this rulemaking proceeding by submitting comments on the proposal to the FAA. No comments objecting to the proposal were received. However, an error was discovered in coordinates for Sumter Municipal Airport as published in the legal description. Except for the correction to those coordinates, this amendment is the same as that proposed in the notice.

The Rule

This action amends 14 CFR part 71 by revising the legal description of the Shaw AFB Class C airspace area located at Shaw AFB, SC. This action revises the hours of operation for the Class C airspace area to align them with current airfield operations. The Shaw AFB Class C airspace area is designated effective during the specific days and hours of operation of the Shaw AFB ATCT as established in advance by NOTAM. This action is a technical amendment to the legal description and does not change the actual dimensions, configuration, or operating requirements of the Shaw AFB Class C airspace area. During the times that Shaw ATCT is not operational, the airspace reverts to Class E airspace since one of the requirements for Class C airspace is an operational ATCT. The radar approach control operating hours remain unchanged. Jacksonville Center assumes the airspace when Shaw radar approach control closes. In addition, this amendment corrects the coordinates, as published in the notice of proposed rulemaking for this action, for the Sumter Municipal Airport, which were inadvertently listed in error in the legal description for the Shaw AFB, SC, Class C airspace area.

The coordinates for this airspace docket are based on North American Datum 83. Class C airspace areas are published in paragraph 4000 of FAA Order 7400.9H, dated September 1, 2000, and effective September 16, 2000, which is incorporated by reference in 14 CFR 71.1. The Class C airspace area listed in this document will be published subsequently in the Order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 4000 Subpart C—Class C Airspace

* * * * *

Shaw AFB, SC [Revised]

Shaw AFB, SC

(Lat. 33°58′23″ N., long. 80°28′22″ W.)

Sumter Municipal Airport

(Lat. 33°59′45″ N., long. 80°21′41″ W.)

That airspace extending upward from the surface to and including 4,200 feet MSL within a 5-mile radius of the Shaw AFB, excluding that airspace below 1,500 feet MSL within a 2-mile radius of the Sumter Municipal Airport; and that airspace extending upward from 1,500 feet MSL to and including 4,200 feet MSL within a 10-mile radius of Shaw AFB; excluding that airspace contained within Restricted Area R-6002 when it is in use. This Class C airspace area is effective during the specific dates and times established in advance by a Notice to Airmen. The effective date and time will thereafter be continuously published in the Airport/Facility Directory.

* * * * *

Issued in Washington, DC, on November 15, 2000.
Reginald C. Matthews,
Manager, Airspace and Rules Division.

[FR Doc. 00-29907 Filed 11-21-00; 8:45 am]

BILLING CODE 4910-13-U